DEPARTMENT OF HOMELAND SECURITY

Coast Guard

46 CFR Part 67

[Docket No. USCG-2014-0688]

RIN 1625-ZA33

Shipping and Transportation; Technical, Organizational, and Conforming Amendments

AGENCY: Coast Guard, DHS.

ACTION: Correcting Amendment.

SUMMARY: The Coast Guard published a final rule in the Federal Register on September 29, 2014, that made non-substantive corrections throughout Title 46 of the Code of Federal Regulations. In that final rule, the Coast Guard revised a paragraph by substituting an incorrect word with one that was presumed correct. The substitution is actually incorrect, and the original word was correct. This correction resolves that error by replacing the word that we incorrectly removed.

DATES: This correction is effective on October 10, 2014.

FOR FURTHER INFORMATION CONTACT: If you have questions on this correction, call or email Paul Crissy, Office of Standards Evaluation and Development, Coast Guard; telephone 202-372-1093, email Paul.H.Crissy@uscg.mil. If you have questions on viewing material on the docket, call Cheryl Collins, Program Manager, Docket Operations, telephone 202-366-9826.

SUPPLEMENTARY INFORMATION: To view the original final rule document, visit http://www.gpo.gov/fdsys/granule/FR-2014-09-29/2014-21994.

Background

On September 29, 2014, the Coast Guard published its annual technical amendment to make non-substantive changes to Title 46 of the Code of Federal Regulations. 79 FR 58270.

Need for Correction

The Coast Guard published a final rule in the Federal Register that created the need for this correction. The Coast Guard amended § 67.259(b) by removing the word “effected,” and adding in its place the word “affected.” This replacement was incorrect, however, as the word “effected” was used correctly. This correction amends paragraph (b) by replacing the word “affected” with the word “effected.”

List of Subjects in 46 CFR Part 67

Reporting and recordkeeping requirements, Vessels.

Accordingly, 46 CFR part 67 is amended by making the following correcting amendment:

PART 67—DOCUMENTATION OF VESSELS

1. The authority citation for part 67 continues to read as follows:

Authority: 14 U.S.C. 664; 31 U.S.C. 9701; 42 U.S.C. 9118; 46 U.S.C. 2103, 2107, 2110, 12106, 12120, 12122; 46 U.S.C. app. 841a, 876; Department of Homeland Security Delegation No. 0170.1.

§ 67.259 [Corrected]

2. In § 67.259(b), remove the word “affected” and add, in its place, the word “effected”.

Dated: October 6, 2014.
Katia Cervoni,
Chief, Office of Regulations and Administrative Law, U.S. Coast Guard.

[FR Doc. 2014-24219 Filed 10-9-14; 8:45 am]

BILLING CODE 9110-04-P